DEPARTMENT OF THE INTERIOR

Office of the Secretary

[GWCRC Meeting Notice No. 3-03]

Guam War Claims Review Commission

The Guam War Claims Review Commission, pursuant to section 10 of the Federal Advisory Committee Act (5 U.S.C. App. 10) and the Government in the Sunshine Act (5 U.S.C. 552b), hereby gives notice in regard to the scheduling of meetings for the transaction of Commission business, as follows:

Date and Time: Monday, December 8, 2003, 8 a.m.-2 p.m., and Tuesday, December 9, 2003, 8 a.m.-6 p.m. (local time).

Place: Guam Legislature Building, 155 Hesler Place, Hagatna, Guam 96910.

Subject Matter: Public hearings to take testimony of witnesses who survived the Japanese taking and occupation of Guam between 1941 and 1944.

Status: Open.

Witnesses will be selected from among the residents of Guam who have completed questionnaires describing their experiences during the World War II Japanese occupation of Guam. Members of the public interested in observing the meeting may do so either in person, as space permits, or via live television broadcast. Requests for information concerning the hearings should be addressed either to the Commission's local office, located in Building 15, Chamorro Village, 153 West Marine Drive, Hagatna, Guam 96910, telephone (671) 479-1941 or (671) 479-1942, FAX (671) 479-1943, or to David Bradley, Executive Director, Guam War Claims Review Commission, c/o Foreign Claims Settlement Commission of the United States, 600 E St., NW., Washington, DC 20579, telephone (202) 616-6975, FAX (202) 616-6993.

Mauricio J. Tamargo,
Chairman.

[FR Doc. 03-29707 Filed 11-26-03; 8:45 am]

BILLING CODE 4310-93-P